DEPARTMENT OF THE INTERIOR

Bureau of Land Management

[NV-010-06-1020PH]

Notice Public Meetings: Northeastern Great Basin Resource Advisory Council

AGENCY: Bureau of Land Management, Interior.

ACTION: Notice of Fiscal Year 2006 Meetings Locations and Times for the Northeastern Great Basin Resource Advisory Council (Nevada).

SUMMARY: In accordance with the Federal Land Policy and Management Act (FLPMA) and the Federal Advisory Committee Act of 1972 (FACA), the U.S. Department of the Interior, Bureau of Land Management (BLM) Nevada Northeastern Great Basin Resource Advisory Council (RAC), will meet as indicated below. Topics for discussion at each meeting will include, but are not limited to: February 16, 2006 (Battle Mountain, Nevada)—Land Tenure, Sage Grouse Conservation Projects, Shoshone Range Off-Highway Vehicle Trail; tentatively April 27, 2006 (Eureka, Nevada); June 15, 2006 (Ely, Nevada)—Ely Resource Management Plan Comments, Minerals activities update; August 17 & 18, 2006 (Wells, Nevada)—Travel Management Planning, Spruce Mountain Tour. Managers' reports of field office activities will be given at each meeting. The council may raise other topics at any of the three planned meetings.

DATES: The RAC will meet three or four times in Fiscal Year 2006: on February 16, 2006 at the BLM Battle Mountain Field Office, 50 Bastian Road, Battle Mountain, Nevada; tentatively on April 27 at the Eureka Opera House at 31 South Main, Eureka, Nevada; on June 15, 2006 at the Bristlecone Convention Center, 150 6th Street, Ely, Nevada; and on August 17 & 18 at the old El Rancho Hotel, 1629 Lake Avenue, Wells, Nevada. All meetings are open to the public. Each meeting will last from 8 a.m. to 4 p.m. and will include a general public comment period, where the public may submit oral or written comments to the RAC. Each public comment period will begin at approximately 1 p.m. unless otherwise listed in each specific, final meeting agenda.

Final detailed agendas, with any additions/corrections to agenda topics, locations, field trips and meeting times, will be sent to local and regional media sources at least 14 days before each meeting, and hard copies can also be mailed or sent via FAX. Individuals who need special assistance such as sign language interpretation or other reasonable accommodations, or who wish a hard copy of each agenda, should contact Mike Brown, Elko Field Office, 3900 East Idaho Street, Elko, Nevada 89801, telephone (775) 753-0386 no later than 10 days prior to each meeting.

FOR FURTHER INFORMATION CONTACT: Mike Brown, Public Affairs Officer, Elko Field Office, 3900 E. Idaho Street, Elko, NV 89801. Telephone: (775) 753-0386. E-mail: mbrown@nv.blm.gov.

SUPPLEMENTARY INFORMATION: The 15-member Council advises the Secretary of the Interior, through the Bureau of Land Management (BLM), on a variety of planning and management issues associated with public land management in Nevada. All meetings are open to the public. The public may present written comments to the Northeastern Great Basin Resource Advisory Council.

Dated: November 7, 2005.
Helen Hankins,
Field Office Manager.

[FR Doc. 05-22594 Filed 11-14-05; 8:45 am]

BILLING CODE 4310-HC-P